DEPARTMENT OF COMMERCE

Foreign-Trade Zones Board

[B-9-2025]

Foreign-Trade Zone (FTZ) 25; Authorization of Production Activity; Philip Stein Holding, Inc.; (Watches); Pembroke Park, Florida

On February 12, 2025, Broward County, grantee of FTZ 25, submitted a notification of proposed production activity to the FTZ Board on behalf of Philip Stein Holding, Inc., within FTZ 25, in Pembroke Park, Florida.

The notification was processed in accordance with the regulations of the FTZ Board (15 CFR part 400), including notice in the Federal Register inviting public comment (90 FR 10473, February 24, 2025). On November 13, 2025, the applicant was notified of the FTZ Board's decision that no further review of the activity is warranted at this time. The production activity described in the notification was authorized, subject to the FTZ Act and the FTZ Board's regulations, including section 400.14.

Dated: November 24, 2025.
Elizabeth Whiteman,
Executive Secretary.

[FR Doc. 2025-21238 Filed 11-25-25; 8:45 am]

BILLING CODE 3510-DS-P